DEPARTMENT OF DEFENSE

Office of the Secretary

Meeting of the Defense Base Closure and Realignment Commission (BRAC)

AGENCY: Notice of meeting.

SUMMARY: This notice sets forth the schedules and summary for the forthcoming meetings of the BRAC. The purposes of these meetings are to receive testimony from the Secretary of Defense, the Chairman of the Joint Chiefs of Staff (JCS), or their representatives; the Department of the Air Force; the Department of the Navy; the Department of the Army; and the Department of Defense's Joint Cross Service Groups on the recommendations and methodology regarding the closure and realignment of military installations. The Commission Chairman, Anthony J. Principi, will chair the hearings.

Dates and Times

Monday, May 16, 2005, 1:30 p.m.-4:30 p.m., Secretary of Defense, Chairman, JCS

Tuesday, May 17, 2005, 9:30 a.m.-12:30 p.m., Department of the Air Force

Tuesday, May 17, 2005, 1:30 p.m.-4:30 p.m., Department of the Navy

Wednesday, May 18, 2005, 9:30 a.m.-12:30 p.m., Department of the Army

Wednesday, May 18, 2005, 1:30 p.m.-4:30 p.m., Defense Joint Cross Service Groups

Thursday, May 19, 2005, 9:30 a.m.-12:30 p.m., Defense Joint Cross Service Groups

ADDRESSES: Senate Russell Building, Room 418, U.S. Senate, Washington, DC.

FOR FURTHER INFORMATION CONTACT: Contact Mr. Charles Battaglia, Executive Director, BRAC Commission, 2521 South Clark St., Suite 600, Arlington VA 22202, telephone 703-699-2952

Dated: April 29, 2005.
L.M. Bynum,
Alternate OSD Federal Register, Liaison Officer, Department of Defense.

[FR Doc. 05-8850 Filed 5-3-05; 8:45 am]

BILLING CODE 5001-06-M